DEPARTMENT OF DEFENSE

Office of the Secretary

[Transmittal No. 25-03]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-03, Policy Justification, and Sensitivity of Technology.

Dated: January 9, 2026.
Stephanie J. Bost,
Alternate OSD Federal Register Liaison Officer, Department of Defense.

BILLING CODE 6001-FR-P

BILLING CODE 6001-FR-C

Transmittal No. 25-03

Notice of Proposed Issuance of Letter of Offer Pursuant to Section 36(b)(1) of the Arms Export Control Act, as amended

(i) Prospective Purchaser: Government of the Ukraine

(ii) Total Estimated Value:

Major Defense Equipment * | $ 0
Other | $266.4 million
TOTAL | $266.4 million

Funding Source: Jumpstart Funding from Belgium and Denmark

(iii) Description and Quantity or Quantities of Articles or Services under Consideration for Purchase:

Major Defense Equipment (MDE):

None

Non-Major Defense Equipment:

The following non-MDE items will be included: Joint Mission Planning System (JMPS); AN/PYQ-10 Simple Key Loaders (SKL); minor modifications and maintenance support; engine Component Improvement Program (CIP); spare and repair parts, consumables, and accessories; repair and return support; weapons software, weapons software support equipment, and classified and unclassified software and delivery support; classified and unclassified publications and documentation; personnel training and training equipment; studies and surveys; United States (U.S.) Government and contractor engineering, technical, and logistics support services; and other related elements of logistics and program support.

(iv) Military Department: Air Force (FMS Case Designator TBD)

(v) Prior Related Cases, if any: NW-D-QAD (USAI Case); JU-D-QAA (Jumpstart Case)

(vi) Sales Commission, Fee, etc., Paid, Offered, or Agreed to be Paid: None known at this time

(vii) Sensitivity of Technology Contained in the Defense Article or Defense Services Proposed to be Sold: See Attached Annex

(viii) Date Report Delivered to Congress: December 10, 2024

* as defined in Section 47(6) of the Arms Export Control Act

POLICY JUSTIFICATION

Ukraine—F-16 Sustainment Services

The Government of Ukraine has requested to buy the Joint Mission Planning System (JMPS); AN/PYQ-10 Simple Key Loaders (SKL); minor modifications and maintenance support; engine Component Improvement Program (CIP); spare and repair parts, consumables, and accessories; repair and return support; weapons software, weapons software support equipment, and classified and unclassified software and delivery support; classified and unclassified publications and documentation; personnel training and training equipment; studies and surveys; U.S. Government and contractor engineering, technical, and logistics support services; and other related elements of logistics and program support. The estimated total cost is $266.4 million.

This proposed sale will support the foreign policy goals and national security objectives of the U.S. by improving the security of a partner country that is a force for political stability and economic progress in Europe.

This proposed sale will improve Ukraine's capability to meet current and future threats by further equipping it to conduct self-defense and regional security missions with a more robust air defense capability. Ukraine will have no difficulty absorbing these articles and services into its armed forces.

The proposed sale of this equipment and support will not alter the basic military balance in the region.

The principal contractors will be Sabena, located in Charleroi, Belgium; Lockheed Martin Aeronautics, located in Fort Worth, TX; and Pratt and Whitney, located in East Hartford, CT. The U.S. Government is not aware of any proposed offset agreements in connection with this potential sale.

Implementation of this proposed sale will not require the assignment of any additional U.S. Government or contractor representatives to Ukraine.

There will be no adverse impact on U.S. defense readiness as a result of this proposed sale.

Transmittal No. 25-03

Notice of Proposed Issuance of Letter of Offer Pursuant to Section 36(b)(1) of the Arms Export Control Act, as amended

Annex

Item No. vii

(vii) Sensitivity of Technology:

1. The AN/PYQ-10 Simple Key Loader (SKL) is a handheld device used for securely receiving, storing, and transferring data between compatible cryptographic and communications equipment.

2. The Joint Mission Planning System (JMPS) is a multi-platform, personal computer-based mission planning system.

3. The highest level of classification of defense articles, components, and services included in this potential sale is SECRET.

4. If a technologically advanced adversary were to obtain knowledge of the specific hardware and software elements, the information could be used to develop countermeasures that might reduce weapon system effectiveness or be used in the development of a system with similar or advanced capabilities.

5. A determination has been made that Ukraine can provide substantially the same degree of protection for the sensitive technology being released as the U.S. Government. This proposed sale is necessary in furtherance of the U.S. foreign policy and national security objectives outlined in the Policy Justification.

6. All defense articles and services listed in this transmittal have been authorized for release and export to the Government of Ukraine.

[FR Doc. 2026-00534 Filed 1-13-26; 8:45 am]

BILLING CODE 6001-FR-P